OFFICE OF THE UNITED STATES TRADE REPRESENTATIVE

Generalized System of Preferences (GSP): Initiation of a Review: Designation of the Republic of South Sudan as a Least Developed Beneficiary Developing Country

AGENCY: Office of the United States Trade Representative.

ACTION: Notice and solicitation of comments from the public.

SUMMARY: This notice announces the initiation of a review to consider designation of the Republic of South Sudan (“South Sudan”) as a beneficiary developing country under the GSP program, including whether South Sudan should also be designated as a Least Developed Beneficiary Country, and solicits comments from the public relating to whether South Sudan meets the criteria for both designations. The deadline for submitting comments is 5 p.m. EST, November 29, 2011.

FOR FURTHER INFORMATION CONTACT: Tameka Cooper, GSP Program, Office of the United States Trade Representative, 600 17th Street NW., Washington, DC 20508. The telephone number is (202) 395-6971; the fax number is (202) 395-9674, and the email address is Tameka_Cooper@ustr.eop.gov.

Public versions of all documents relating to this review will be made available for public viewing at www.regulations.gov, docket number USTR 2011-0016, on completion of processing and no later than approximately two weeks after the due date.

SUPPLEMENTARY INFORMATION: The GSP Subcommittee of the Trade Policy Staff Committee (TPSC) has initiated a review as to whether South Sudan meets the eligibility criteria of the GSP statute, as set out below. After considering the eligibility criteria, the President is authorized to designate South Sudan as a least developed beneficiary country for purposes of the GSP program. Interested parties are invited to submit comments regarding the eligibility of South Sudan for designation as a beneficiary developing country and as a least developed beneficiary country. To be considered in this review, documents should be submitted in accordance with the instructions below.

I. Eligibility Criteria

The trade benefits of the GSP program are available to any country that the President designates as a GSP “beneficiary developing country.” Additional trade benefits under the GSP are available to any country that the President also designates as a GSP “least developed beneficiary developing country.” In designating countries as GSP beneficiary developing countries, the President must consider the criteria in sections 502(b)(2) and 502(c) of the Trade Act of 1974, as amended (19 U.S.C. 2462(b)(2), 2462(c)) (“the Act”), including definitions found in section 507 of the Act (19 U.S.C. 2467). When determining whether to designate a country as a least developed beneficiary developing country, the President must consider the factors in sections 501 and 502(c) of the Act (19 U.S.C. 2461, 2462(c)). The relevant GSP provisions are available on the USTR Web site at: http://www.ustr.gov/trade-topics/trade-development/preference-programs/generalized-system-preference-gsp/gsp-program-inf.

II. Requirements for Submissions

All submissions must conform to the GSP regulations set forth at 15 CFR Part 2007, except as modified below. Comments must be submitted, in English, to the Chairman of the GSP Subcommittee of the TPSC as soon as possible, but not later than 5 p.m. EST, November 29, 2011. Submissions in response to this notice, including business confidential submissions, must be submitted electronically using www.regulations.gov, docket number USTR 2011-0016. Hand-delivered submissions will not be accepted.

To make a submission using www.regulations.gov, enter docket number USTR-2011-0016 in the “Enter Keyword or ID” field on the home page and click “Search.” The site will provide a search-results page listing all documents associated with this docket. Find a reference to this notice by selecting “Notice” under “Document Type” in the top-middle section of the search-results page, and click on the link entitled “Submit a Comment.” The www.regulations.gov Web site offers the option of providing comments by filling in a “Type Comment” field or by attaching a document using the “Upload file(s)” field. Submissions must be in English, with the total submission not to exceed 30 single-spaced standard letter-size pages in 12-point type, including attachments. Any data attachments to the submission should be included in the same file as the submission itself, and not as separate files. Submissions must include, at the beginning of the submission, or on the first page (if an attachment), the following text (in bold and underlined): “South Sudan GSP Eligibility Review”.

Each submitter will receive a submission tracking number on completion of the submissions procedure at www.regulations.gov. The tracking number will be the submitter's confirmation that the submission was received into www.regulations.gov. The confirmation should be kept for the submitter's records. USTR is not responsible for any delays in a submission due to technical difficulties, nor is it able to provide any technical assistance for the Web site. Documents not submitted in accordance with these instructions may not be considered in this review. If unable to provide submissions as requested, please contact USTR's GSP Program office to arrange for an alternative method of transmission.

Business Confidential Submissions

A submitter requesting that information contained in a comment be treated as business confidential information must certify that such information is business confidential and provide an explanation as to why the information should be protected in accordance with 15 CFR 2007.7. Confidential business information must be clearly designated as such. The submission must be marked “BUSINESS CONFIDENTIAL” at the top and bottom of the cover page and each succeeding page, and the submission should indicate, via brackets, the specific information that is confidential. In addition, “Business Confidential” must be included in the “Type Comment” field. Anyone submitting a comment containing business confidential information must also submit as a separate submission a non-confidential version of the confidential submission, indicating where confidential information has been redacted. The non-confidential version will be placed in the docket and open to public inspection. Business confidential submissions that are submitted without the required markings, or are not accompanied by a properly marked non-confidential version, as set forth above, may not be accepted or may be considered public documents.

III. Public Viewing of Review Submissions

Submissions in response to this notice, except for information granted “business confidential” status under 15 CFR 2003.6, will be available for public viewing pursuant to 15 CFR 2007.6 at www.regulations.gov on completion of processing and no later than approximately two weeks after the relevant due date. Such submissions may be viewed by entering the docket number USTR-2011-0016 in the search field at: www.regulations.gov and clicking “Search.”

William D. Jackson,
Deputy Assistant U.S. Trade Representative for the Generalized System of Preferences, Office of the U.S. Trade Representative.

[FR Doc. 2011-28826 Filed 11-7-11; 8:45 am]

BILLING CODE 3190-W2-P